DEPARTMENT OF HEALTH AND HUMAN SERVICES

National Institutes of Health

National Institute of Neurological Disorders and Stroke; Notice of Meeting

Pursuant to section 10(a) of the Federal Advisory Committee Act, as amended (5 U.S.C. Appendix 2), notice is hereby given of a meeting of the Muscular Dystrophy Coordinating Committee.

The meeting will be open to the public, with attendance limited to space available. Individuals who plan to attend and need special assistance, such as sign language interpretation or other reasonable accommodations, should inform the Contact Person listed below in advance of the meeting.

Name of Committee: Muscular Dystrophy Coordinating Committee.

Date: November 9, 2005.

Time: 8 a.m. to 3:30 p.m.

Agenda: Topics proposed for discussion: (1) Activities and recent initiatives; (2) progress of the Senator Paul Wellstone Muscular Dystrophy Cooperative Research Centers; (3) recommendations of the MDCC Scientific Working Group; (4) efforts for translational research in muscular dystrophy; and (5) advances in the rare/understudied muscular dystrophies.

Place: Embassy Suites Hotel at the Chevy Chase Pavilion, 4300 Military Road, NW., Washington, DC 20015, (202) 362-9300.

Contact Person: John D. Porter, PhD, Executive Secretary, Muscular Dystrophy Coordinating Committee, National Institute of Neurological Disorders and Stroke, NIH, 6001 Executive Boulevard, NSC 2172, Bethesda, MD 20892, (301) 496-1917, porterjo@ninds.nih.gov.

Any interested person may file written comments with the committee by forwarding their statement to the Contact Person listed on this notice. The statement should include the name, address, telephone number and when applicable, the business or professional affiliation of the interested person.

Information is also available on the MDCC Web site: http://www.ninds.nih.gov/research/muscular_dystrophy/coordinating_committee, where an agenda and any additional information for the meeting will be posted when available.

(Catalogue of Federal Domestic Assistance Program Nos. 93.853, Clinical Research Related to Neurological Disorders; 93.854, Biological Basis Research in the Neurosciences, National Institutes of Health, HHS)

Dated: October 11, 2005.
Anthony M. Coehlo, Jr.,
Acting Director, Office of Federal Advisory Committee Policy.

[FR Doc. 05-21023 Filed 10-19-05; 8:45 am]

BILLING CODE 4140-01-M